DEPARTMENT OF TRANSPORTATION

Federal Aviation Administration

14 CFR Part 39

[Docket No. FAA-2005-20048; Directorate Identifier 2005-CE-01-AD; Amendment 39-13945; AD 2005-02-01]

RIN 2120-AA64

Airworthiness Directives; The Lancair Company Models LC40-550FG and LC42-550FG Airplanes

AGENCY: Federal Aviation Administration (FAA), DOT.

ACTION: Final rule; request for comments.

SUMMARY: The FAA is adopting a new airworthiness directive (AD) for certain The Lancair Company (Lancair) Models LC40-550FG and LC42-550FG airplanes. This AD requires you to incorporate additional takeoff chart distance values information into the Performance Section of the FAA-approved Airplane Flight Manual (AFM). This AD results from flight testing that revealed that the takeoff distance values for the affected airplanes could not be duplicated. We are issuing this AD to prevent potential impact with terrain or obstruction during takeoff due to incorrect takeoff distance values.

DATES: This AD becomes effective on January 21, 2005. We must receive any comments on this AD by March 18, 2005.

ADDRESSES: Use one of the following to submit comments on this AD:

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this AD, contact The Lancair Company, 22550 Nelson Road, Bend Oregon 97701; telephone: (541) 330-4191; e-mail: product_support@lancair.com.

To view the comments to this AD, go to http://dms.dot.gov. The docket number is FAA-2005-20048.

FOR FURTHER INFORMATION CONTACT: Mr. Jeffrey Morfitt, Program Manager, FAA, Seattle Aircraft Certification Office (ACO), 1601 Lind Avenue, SW., Renton, Washington 98055-4065; telephone: (425) 917-6405; facsimile: (425) 917-6590.

SUPPLEMENTARY INFORMATION: What events have caused this AD? During flight testing for the approval of an optional air conditioning system, Lancair could not duplicate the takeoff performance criteria included in the FAA-approved Airplane Flight Manual (AFM) for the Models LC40-550FG and LC42-550FG airplanes. Lancair found that the currently published information predicts takeoff distances that are as much as 65 percent below that actually required.

What is the potential impact if FAA took no action? Using this incorrect data in certain situations could result in potential impact with terrain or obstruction during takeoff.

Is there service information that applies to this subject? Lancair has issued Mandatory Service Bulletin No. SB-05-001, dated January 4, 2005.

What are the provisions of this service information? The service bulletin includes corrected takeoff chart distance values for the Lancair Models LC40-550FG and LC42-550FG airplanes.

FAA's Determination and Requirements of the AD

What has FAA decided? We have evaluated all pertinent information and identified an unsafe condition that is likely to exist or develop on other products of this same type design.

Since the unsafe condition described previously is likely to exist or develop on other Lancair Models LC40-550FG and LC42-550FG airplanes of the same type design, we are issuing this AD to prevent potential impact with terrain or obstruction during takeoff due to incorrect takeoff distance values.

What does this AD require? This AD requires you to you to incorporate additional takeoff chart distance values information into the Performance Section of the FAA-approved AFM.

In preparing of this rule, we contacted type clubs and aircraft operators to get technical information and information on operational and economic impacts. We did not receive any information through these contacts. If received, we would have included a discussion of any information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2005-20048; Directorate Identifier 2005-CE-01-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket FAA-2005-20048; Directorate Identifier 2005-CE-01-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-02-01 The Lancair Company: Amendment 39-13945; Docket No. FAA-2005-20048; Directorate Identifier 2005-CE-01-AD.

When Does This AD Become Effective?

(a) This AD becomes effective on January 21, 2005.

Are Any Other ADs Affected by This Action?

(b) None.

What Airplanes Are Affected by This AD?

(c) This AD affects the following airplane models and serial numbers that are certificated in any category:

Model | Serial Nos.
LC40-550FG | 40004 through 40079.
LC42-550FG | 42002 through 42062.

What Is the Unsafe Condition Presented in This AD?

(d) This AD results from flight testing that revealed that the takeoff distance values for the affected airplanes could not be duplicated. We are issuing this AD to prevent potential impact with terrain or obstruction during takeoff due to incorrect takeoff distance values.

What Must I Do To Address This Problem?

(e) To address this problem, you must do the following:

Actions | Compliance | Procedures
(1) To address the unsafe condition, do the following: (i) Using pen and ink, make the following notation in the takeoff distance chart (Figure 5-7) in Section 5 of the FAA-approved Airplane Flight Manual (AFM): “Caution: See Service Bulletin SB-05-001 for takeoff performance correction.” (ii) Insert a copy of Lancair Mandatory Service Bulletin SB-05-001, dated January 4, 2005, into Section 5 of the FAA-approved AFM. | Before further flight after January 21, 2005 (the effective date of this AD) | The owner/operator holding at least a private pilot certificate as authorized by section 43.7 of the Federal Aviation Regulations (14 CFR 43.7) may do the flight manual changes requirement of this AD. Make an entry in the aircraft records showing compliance with this portion of the AD following section 43.9 of the Federal Aviation Regulations (14 CFR 43.9).
(2) Lancair will include this information into the next revision of the FAA-approved AFM. Incorporation of the revision that includes this information into Section 5 of the FAA-approved AFM is considered terminating action for paragraphs (e)(1)(i) and (e)(1)(ii) of this AD | At any time as terminating action | The owner/operator holding at least a private pilot certificate as authorized by section 43.7 of the Federal Aviation Regulations (14 CFR 43.7) may do the flight manual changes requirement of this AD. Make an entry in the aircraft records showing compliance with this portion of the AD following section 43.9 of the Federal Aviation Regulations (14 CFR 43.9).

May I Request an Alternative Method of Compliance?

(f) You may request a different method of compliance or a different compliance time for this AD by following the procedures in 14 CFR 39.19. Unless FAA authorizes otherwise, send your request to your principal inspector. The principal inspector may add comments and will send your request to the Manager, Seattle Aircraft Certification Office, FAA. For information on any already approved alternative methods of compliance, contact Mr. Jeffrey Morfitt, Program Manager, FAA, Seattle Aircraft Certification Office (ACO), 1601 Lind Avenue, SW., Renton, Washington 98055-4065; telephone: (425) 917-6405; facsimile: (425) 917-6590.

May I Get Copies of the Document Referenced in This AD?

(g) You may obtain the service information referenced in this AD from The Lancair Company 22550 Nelson Road, Bend, Oregon 97701; telephone: (541) 330-4191; e-mail: product_support@lancair.com. To view the AD docket, go to the Docket Management Facility; U.S. Department of Transportation, 400 Seventh Street, SW., Nassif Building, Room PL-401, Washington, DC, or on the Internet at http://dms.dot.gov. This is docket number FAA-2005-20048.

Issued in Kansas City, Missouri, on January 10, 2005.
David R. Showers,
Acting Manager, Small Airplane Directorate, Aircraft Certification Service.

[FR Doc. 05-831 Filed 1-18-05; 8:45 am]

BILLING CODE 4910-13-P